DEPARTMENT OF ENERGY

Federal Energy Regulatory Commission

[Project Nos. 11472-060, 11132-028, 11482-030, 4202-023, 3562-024]

KEI (Maine) Power Management (I) LLC, KEI (Maine) Power Management (II) LLC, KEI (Maine) Power Management (III) LLC, KEI (Maine) Power Management (IV) LLC; Notice of Application for Amendment of Licenses and Soliciting Comments, Motions To Intervene, and Protests

Take notice that the following hydroelectric application has been filed with the Commission and is available for public inspection:

a. Application Type: Amendment of License.

b. Project Nos: 11472-060, 11132-028, 11482-030, 4202-023, 3562-024.

c. Date Filed: February 19, 2013.

d. Applicants: KEI (Maine) Power Management (I) LLC, KEI (Maine) Power Management (II) LLC, KEI (Maine) Power Management (III) LLC, KEI (Maine) Power Management (IV) LLC.

e. Name of Projects: The Burnham Project, the Eustis Project, the Marcal Project, the Lowell Tannery Project, and the Barker Mill Upper Project.

f. Locations: The Burnham Project is located on the Sebasticook River, in Waldo and Somerset Counties, Maine; the Eustis Project is located on the North Branch of the Dead River, in Franklin County, Maine; the Marcal Project is located on the Little Androscoggin River, in Androscoggin County, Maine; the Lowell Tannery Project is located on the Passadumkeag River, in Penobscot County, Maine; and the Barker Mill Upper Project is located on the Little Androscoggin River, in Androscoggin County, Maine.

g. Filed Pursuant to: Federal Power Act, 16 USC 791a-825r.

h. Applicant Contact: Lewis C. Loon, Manager, KEI (USA) Power Management Inc., 37 Alfred Plourde Parkway, Suite 2, Lewiston, ME 04240.

i. FERC Contact: Christopher Chaney, (202) 502-6778, or christopher.chaney@ferc.gov.

j. Deadline for filing comments, motions to intervene, and protests: 30 days from issuance date of this notice by the Commission.

The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-11472-060, P-11132-028, P-11482-030, P-4202-023, and/or P-3562-024, as applicable.

k. Description of Request: The licensee requests to amend the five project licenses to eliminate the authorization to conduct store-and-release drawdowns, and to authorize run-of-river operation, limiting drawdowns. Under the licensee's proposal, drawdowns would be limited to those necessary for maintenance or emergency operations.

l. Locations of the Application: This filing may be viewed on the Commission's Web site at http://www.ferc.gov/docs-filing/elibrary.asp. Enter the docket number P-11472, P-11132, P-11482, P-4202, or P-3562 in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above and at the Commission's Public Reference Room, located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works that are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 19, 2013.
Kimberly D. Bose,
Secretary.

[FR Doc. 2013-28258 Filed 11-25-13; 8:45 am]

BILLING CODE 6717-01-P